DEPARTMENT OF LABOR

Employment and Training Administration

[TA-W-74,935]

Husqvarna Turf Care, a Subsidiary of Husqvarna A.B., Beatrice, NE; Notice of Affirmative Determination Regarding Application for Reconsideration

By application dated April 23, 2011, a petitioner requested administrative reconsideration of the negative determination regarding workers' eligibility to apply for Trade Adjustment Assistance (TAA) applicable to workers and former workers of Husqvarna Turf Care, a subsidiary of Husqvarna A.B., Beatrice, Nebraska (subject firm). The negative determination was issued on March 23, 2011. The Department's Notice of Determination was published in the Federal Register on April 11, 2011 (76 FR 20048). The workers are engaged in activities related to the production of zero turn mowers for commercial users and home owners.

The negative determination was based on the findings that Criterion III has not been met because the worker separations are not attributable to increased imports or a shift in production to a foreign country. Rather, the investigation established that the worker separations were attributable to a shift in production to an affiliated facility within the United States, and that the shift is attributable to business considerations unrelated to increased imports.

With regard to the affiliated facility (TA-W-74,418), the worker separations were attributable to a shift by the workers' firm of computer-aided design (CAD) services to a foreign country. The investigation confirmed that the shift of CAD services was unrelated to the shift in production in this case.

With respect to Section 222(c) of the Act, the investigation revealed that Criterion (2) has not been met because the firm is not a Supplier or Downstream Producer to a firm that employed a worker group eligible to apply for TAA.

In the request for reconsideration, the petitioner stated that “it has been the intent of Husqvarna to gradually but progressively move these jobs to another country or countries * * * It has been rumored that he (a line leader) has been given the ultimatum to increase his production or they would move this line to Germany. In addition to this, it was rumored that they had built a new building in Germany * * * and that our PZ line was already running in Germany before our plant had closed.” In an attachment to the request, another worker stated that “we have reports that some of our jobs have already been moved to foreign soil and that more will be in the future.”

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed in Washington, DC, on this 3rd day of May, 2011.
Del Min Amy Chen,
Certifying Officer, Office of Trade Adjustment Assistance.

[FR Doc. 2011-12395 Filed 5-19-11; 8:45 am]

BILLING CODE 4510-FN-P